DEPARTMENT OF DEFENSE

Department of the Army

Proposed Expansion Plan for the National Training Center (NTC) and Fort Irwin

AGENCY: National Training Center and Fort Irwin, Department of the Army, DoD.

ACTION: Notice of availability.

SUMMARY: Congress directed the Departments of the Army and Interior to draft a proposed plan that would expand the maneuver training lands at the NTC while protecting endangered and threatened species and their critical habitats. Public Law 106-554, Consolidated Appropriations Act, 2001, incorporates by reference House Report 5666, Miscellaneous Appropriations, Section 323, which calls upon the Secretaries jointly to provide to Congress the key elements of the proposed expansion plan no later than 45 days after enactment. Within 90 days after enactment, the Director of the Fish and Wildlife Service is to provide the Secretaries with a preliminary review of the plan that identifies an approach for implementing the plan consistent with the Endangered Species Act. Within 120 days of enactment, the Secretaries are required to submit a proposed expansion plan and to propose legislation for the withdrawal and reservation of public lands for the NTC expansion. All activities are to be taken in full compliance with the Endangered Species Act, the National Environmental Policy Act, and other applicable laws and regulations.

In partial satisfaction of the requirements of the NTC and Fort Irwin expansion provision, the Secretaries submitted the Key Elements Report to Congress on January 12, 2001, identifying the proposed expansion areas that are necessary to meet training requirements and setting forth proposed conservation measures to preserve and protect sensitive species and their habitats.

On March 28, 2001, the Director of the Fish and Wildlife Service provided the Secretaries with a Preliminary Review of the plan, identifying an approach for implementing the proposed expansion plan consistent with the Endangered Species Act. The Fish and Wildlife Service reviewed the key elements of the proposed expansion plan, including the proposed conservation measures, and provided its preliminary analysis of the effects of the proposed expansion on the desert tortoise and the Lane Mountain milk vetch. The Service also provided information on the aspects of an expansion for which additional information must be developed prior to the initiation of formal consultation pursuant to section 7(a)(2) of the Endangered Species Act. The Service noted that, although it had attempted to provide the most complete analysis possible, the receipt of new information between the date of the Preliminary Review and the conclusion of formal consultation may alter the conclusions it reached. The purpose of the Preliminary Review was to provide early information so the Department of the Army could prepare an expansion proposal that includes appropriate measures for ameliorating the effects to the desert tortoise and Lane Mountain milk vetch. The Preliminary Review does not constitute the Fish and Wildlife Service's biological opinion for the NTC's proposed expansion.

The Proposed Expansion Plan builds on the comments provided by the Fish and Wildlife Service in its Preliminary Review of the Effects of the Expansion of the NTC/Fort Irwin on the Desert Tortoise and Lane Mountain milk vetch and is submitted concurrently with a draft of proposed legislation providing for the withdrawal and reservation of public lands for the expansion of the NTC. We understand and reiterate to the Congress and to the public that these documents do not substitute for the processes required under the Endangered Species Act, the National Environmental Policy Act, or other applicable laws and regulations.

Copies of the Proposed Expansion Plan may be obtained via the web at http://www.dtic.mil/armylink/news/Jul2001/r2001071616july01.html or http://www.doi.gov/doipress/.

ADDRESSES: Requests for copies of the Proposed Expansion Plan may be made to the Public Affairs Office, National Training Center and Fort Irwin, P.O. Box 105001, Fort Irwin, California 92310 or by calling (760) 380-3078, FAX (760) 380-4860.

FOR FURTHER INFORMATION CONTACT: MAJ Robert Ali, Public Affairs Office, National Training Center and Fort Irwin, P.O. Box 105001, Fort Irwin, California, or by calling (760) 380-3078.

SUPPLEMENTARY INFORMATION: This Notice of Availability (NOA) of the Proposed Expansion Plan is not a call for public comments on the Plan as would be required for a NOA of an Environmental Impact Statement (EIS). This NOA of the Proposed Expansion Plan does not substitute for the processes required under the Endangered Species Act, the National Environmental Policy Act, or other applicable laws and regulations. Consequently, there will be a Federal Register notice of intent to prepare a supplemental EIS and a subsequent notice of availability of a draft EIS for the NTC land expansion. Public comments will be accepted at that time on the draft EIS as required by the National Environmental Policy Act.

Dated: September 28, 2001.
Raymond J. Fatz,
Deputy Assistant Secretary of the Army (Environment, Safety and Occupational Health) OASA(I&E).

[FR Doc. 01-24885 Filed 10-3-01; 8:45 am]

BILLING CODE 3710-08-M